DEPARTMENT OF THE INTERIOR

Fish and Wildlife Service

[Docket No. FWS-R7-ES-2025-0025; FXES111607MRG01-256-FF07CAMM00]

Marine Mammals; Letters of Authorization To Take Pacific Walruses, Polar Bears, and Northern Sea Otters in Alaska, in 2024

AGENCY: Fish and Wildlife Service, Interior.

ACTION: Notice of issuance.

SUMMARY: In accordance with the Marine Mammal Protection Act of 1972, as amended, the U.S. Fish and Wildlife Service (FWS) issues letters of authorization (LOA) for the nonlethal take of polar bears and Pacific walruses incidental to oil and gas industry exploration, development, and production activities in the Beaufort Sea and the adjacent northern coast of Alaska. The FWS also issues LOAs for the nonlethal take of northern sea otters incidental to pile driving and marine construction activities in the Gulf of Alaska. This notice announces the LOAs issued in calendar year 2024. The LOAs stipulate conditions and methods that minimize impacts to polar bears, Pacific walruses, and northern sea otters from these activities.

ADDRESSES:

Accessing documents: You may view the letters of authorization at https://www.regulations.gov under Docket No. FWS-R7-ES-2025-0025. Alternatively, you may request these documents from the person listed under FOR FURTHER INFORMATION CONTACT.

FOR FURTHER INFORMATION CONTACT: Stephanie Burgess, Ph.D., Regulatory Program Lead, by U.S. mail at U.S. Fish and Wildlife Service, 1011 East Tudor Road MS-341, Anchorage, AK 99503; by email at r7mmmregulatory@fws.gov; or by telephone at (907) 786-3800. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: On August 5, 2021, the U.S. Fish and Wildlife Service (FWS) published in the Federal Register a final rule (86 FR 42982) establishing regulations that allow us to authorize the nonlethal, incidental, unintentional take of small numbers of polar bears (Ursus maritimus) and Pacific walruses (Odobenus rosmarus divergens) during year-round oil and gas industry exploration, development, and production activities in the Beaufort Sea and adjacent northern coast of Alaska. These incidental take regulations are located in subpart J in part 18 of title 50 of the Code of Federal Regulations (CFR) and are effective through August 5, 2026. The rule prescribed a process under which we issue letters of authorization (LOA) to applicants conducting activities as described under the provisions of the regulations.

Each LOA stipulates conditions or methods that are specific to the activity and location. Holders of the LOAs must use methods and conduct activities in a manner that minimizes, to the greatest extent practicable, adverse impacts on Pacific walruses and polar bears and their habitat, and on the availability of these marine mammals for subsistence purposes. No intentional take or lethal incidental take is authorized under these regulations.

In accordance with section 101(a)(5)(A) of the Marine Mammal Protection Act (16 U.S.C. 1361 et seq.) and our regulations at 50 CFR part 18, subpart J, in 2024, we issued LOAs to the companies in the Beaufort Sea and adjacent northern coast of Alaska shown in table 1.

Table 1—Letters of Authorization Issued for Oil and Gas Development Activities in the Beaufort Sea, Alaska, in 2024
Company | Project | LOA #
Eni U.S. Operating Company, Inc | Oil and gas drilling and production within the Nikaitchuq and Oooguruk Units on Alaska's North Slope | 24-INC-01.
Alyeska Pipeline Service Company | Operation and maintenance of the Trans Alaska Pipeline System, which extends from Pump Station 1 in the Prudhoe Bay Oilfield to the Valdez Marine Terminal | 24-INC-02.
Oil Search Alaska, LLC | Oil and gas exploration and development within and adjacent to the Pikka Unit area and oil and gas exploration on Oil Search Alaska operated leaseholds on Alaska's North Slope | 24-INC-03.
Hilcorp Alaska, LLC | Year-round oil and gas exploration, production, development, and support activities in the Milne Point, Duck Island (Endicott), Northstar Island, Prudhoe Bay, and Point Thomson operation areas located in the Beaufort Sea incidental take regulations area of the North Slope of Alaska | 24-INC-04.
Hilcorp Alaska, LLC | An amendment request dated October 3, 2024, for 24-INC-04 to include oil and gas drilling, maintenance, and production activities within the Nikaitchuq and Oooguruk Units on the North Slope of Alaska that were formerly conducted by Eni U.S. Operating Company, Inc (Eni) under 24-INC-01 | 24-INC-04 (amended).
Conoco Philips Alaska Inc | Incidental take of polar bears and Pacific walruses that may occur during ConocoPhillips Alaska Inc.'s field-wide operations in the Colville River, Greater Mooses Tooth, Quokka, Horseshoe, Pikka, Southern Miluveach, Bear Tooth, and Kuparuk River Units and non-unitized land on the North Slope of Alaska | 24-INC-05.
Glacier Oil and Gas | Incidental take of polar bears and Pacific walruses during oil and gas exploration, development, and production activities associated with the Badami Oilfield on the North Slope of Alaska | 24-INC-06.
ASRC Consulting & Environmental Services, LLC | Incidental take of polar bears that may occur during ASRC Consulting & Environmental Services, LLC's (ACES) operation, deconstruction, and demobilization of a production test facility, well plug and abandonment, post-operation data monitoring, and site clearance for a methane hydrate project on the Kuparuk State 7-11-12 gravel pad within the Prudhoe Bay Unit on the North Slope of Alaska | 24-INC-07.
Conoco Philips Alaska Inc | Incidental take of polar bears and Pacific walruses that may occur during ConocoPhillips Alaska, Inc.'s (CPAI) oil and gas activities associated with the Willow Development project in the Bear Tooth, Greater Mooses Tooth, Colville River, and Kuparuk River Units and non-unitized lands east of the Colville River on the North Slope of Alaska | 24-INC-08.
ASRC Consulting & Environmental Services, LLC | Incidental take of polar bears that may occur during ASRC Consulting & Environmental Services, LLC's (ACES) ice road, snow trail, and ice pad construction, ice road and snow trail transportation, and oil and gas exploration well drilling on the North Slope of Alaska | 24-INC-09.

On April 19, 2023, the FWS published in the Federal Register a final rule (88 FR 24115) establishing regulations that allow us to authorize the nonlethal, incidental, unintentional take of small numbers of northern sea otters (Enhydra lutris kenyoni) during marine construction and pile-driving activities in coastal waters surrounding eight United States Coast Guard (USCG) facilities in the Gulf of Alaska. These incidental take regulations are located in subpart L in part 18 of title 50 of the CFR and are effective through May 19, 2028. The rule prescribed a process under which we issue LOAs to the USCG conducting activities as described under the provisions of the regulations.

Each LOA stipulates conditions or methods that are specific to the activity and location. Holders of the LOAs must use methods and conduct activities in a manner that minimizes, to the greatest extent practicable, adverse impacts on northern sea otters and their habitat, and on the availability of northern sea otters for subsistence purposes. No intentional take or lethal incidental take is authorized under these regulations.

In accordance with section 101(a)(5)(A) of the Marine Mammal Protection Act (16 U.S.C. 1361 et seq.) and our regulations at 50 CFR part 18, subpart L, in 2024, we issued two LOAs to the USCG for their activities in the Gulf of Alaska, as shown in table 2.

Table 2—Letters of Authorization Issued to the U.S. Coast Guard (USCG) for Marine Construction and Pile-Driving Activities in the Gulf of Alaska
Company | Project | LOA #
USCG | Incidental take of small numbers of northern sea otters that may occur during activities associated with pile driving and marine construction activities in Cordova, Alaska | 24-CG-01.
USCG | Incidental take of small numbers of northern sea otters that may occur during activities associated with pile driving and marine construction activities at USCG Station Kodiak, Alaska | 24-CG-02.

Authority: We issue this notice under the authority of the Marine Mammal Protection Act (16 U.S.C. 1361 et seq.).

Peter Fasbender,
Assistant Regional Director, Fisheries and Ecological Services, Alaska Region.

[FR Doc. 2025-13485 Filed 7-17-25; 8:45 am]

BILLING CODE 4333-15-P